ENVIRONMENTAL PROTECTION AGENCY

40 CFR Part 300

[FRL-7818-1]

National Oil and Hazardous Substance Pollution Contingency Plan; National Priorities List

AGENCY: Environmental Protection Agency.

ACTION: Direct final notice of partial deletion of the Centre County Kepone Superfund Site from the National Priorities List.

SUMMARY: The Environmental Protection Agency (EPA), Region III, is publishing a direct final notice of deletion of a portion of the Centre County Kepone Superfund Site (the Site), located in State College, Pennsylvania, from the National Priorities List (NPL). The deletion affects approximately 8 acres, referred to as the “Administration Parcel”.

The NPL, promulgated pursuant to section 105 of the Comprehensive Environmental Response, Compensation, and Liability Act (CERCLA) of 1980, as amended, is Appendix B of 40 CFR part 300, which is the National Oil and Hazardous Substances Pollution Contingency Plan (NCP). This direct final deletion is being published by EPA with the concurrence of the Commonwealth of Pennsylvania, through the Pennsylvania Department of Environmental Protection (PADEP), because no manufacturing operations ever occurred on the Administration Parcel and it is located upgradient from the contaminated portions of the Site. Therefore, remedial action pursuant to CERCLA is not appropriate.

DATES: This direct final deletion will be effective November 26, 2004, unless EPA receives adverse comments by October 27, 2004. If adverse comments are received, EPA will publish a timely withdrawal of the direct final deletion in the Federal Register informing the public that the deletion will not take effect.

ADDRESSES: Comments may be mailed to: David Polish, Community Involvement Coordinator, U.S. EPA Region III, Mailcode 3HS43, 1650 Arch Street, Philadelphia, Pennsylvania 19103-2029, (215) 814-3327 or 1-800-553-2509, polish.david@epa.gov.

Information Repositories: Repositories have been established to provide detailed information concerning this decision at the following addresses: U.S. EPA Region III Library, U.S. EPA Region III, 1650 Arch Street, Philadelphia, Pennsylvania 19103-2029, (215) 814-5000, Monday through Friday 8 a.m. to 12 p.m.; Schlow Memorial Library, 118 South Fraser Street, State College, PA 16801, (814) 237-6236, Monday through Wednesday 9 a.m. to 9 p.m., Thursday 12 p.m. to 9 p.m., Friday 9 a.m. to 6 p.m., Saturday 9 a.m. to 5 p.m., Sunday (during school year) 1:30 p.m. to 5 p.m.

FOR FURTHER INFORMATION CONTACT: Frank Klanchar, Project Manager, U.S. EPA Region III, Mailcode 3HS22, 1650 Arch Street, Philadelphia, Pennsylvania 19103-2029, (215) 814-3218 or 1-800-438-2474, klanchar.frank@epa.gov.

SUPPLEMENTARY INFORMATION:

Table of Contents

I. Introduction

II. NPL Deletion Criteria

III. Deletion Procedures

IV. Basis for Partial Site Deletion

V. Deletion Action

I. Introduction

The Environmental Protection Agency (EPA) Region III is publishing this direct final notice of deletion of a portion of the Centre County Kepone Superfund Site (the Site), located in State College, Pennsylvania, from the NPL. This deletion pertains to approximately 8 acres to the north of Struble Road, referred to as the Administration Parcel, which includes the current RUTGERS Organics Corporation (ROC) Administration Building and associated parking and open areas.

The Administration Parcel has never been used for manufacturing operations and is located upgradient from the contaminated portion of the Site. EPA proposes to delete the Administration Parcel because no contamination at or above levels that present a significant risk to public health, welfare, or the environment has been found at or originating from the Administration Parcel. Therefore, response activities are not appropriate in this portion of the Site.

The EPA identifies sites that appear to present a significant risk to public health or the environment and maintains the NPL as the list of those sites. As described in 300.425(e)(3) of the NCP, sites deleted from the NPL remain eligible for remedial actions if conditions at a deleted site warrant such action.

Because EPA considers this action to be non-controversial and routine, EPA is taking it without prior publication of a notice of intent to delete. This direct final deletion will be effective sixty (60) days after publication of this document in the Federal Register unless EPA receives adverse comments within thirty (30) days after publication of this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Administration Parcel of the Centre County Kepone Superfund Site and demonstrates how it meets the deletion criteria. Section V discusses EPA's action to delete the Administration Parcel of the Site from the NPL unless adverse comments are received during the public comment period.

II. NPL Deletion Criteria

Section 40 CFR 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substances Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available that indicates a need for further action, EPA may initiate remedial actions. Whenever there is a significant release from a site deleted from the NPL, the deleted site may be restored to the NPL without application of the hazardous ranking system.

Deletion of a portion of a site from the NPL does not preclude eligibility for subsequent Fund-financed actions at the area deleted if future site conditions warrant such actions. Section 300.425(e)(3) of the NCP provides that Fund-financed actions may be taken at sites that have been deleted from the NPL. A partial deletion of a site from the NPL does not affect or impede EPA's ability to conduct CERCLA response activities at areas not deleted and remaining on the NPL. In addition, deletion of a portion of a site from the NPL does not affect the liability of responsible parties or impede agency efforts to recover costs associated with response efforts.

III. Deletion Procedures

The following procedures apply to the deletion of the Administration Parcel at the Site:

(1) The EPA consulted with the Commonwealth of Pennsylvania on the partial deletion of the Site from the NPL prior to developing this direct final notice of partial deletion.

(2) The Commonwealth of Pennsylvania, through the PADEP, concurred with this partial deletion.

(3) Concurrently with the publication of the direct final notice of partial deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete a portion of the Site from the NPL.

(4) The EPA placed copies of documents supporting the deletion in the Site information repositories identified above.

(5) If adverse comments are received within the 30-day public comment period on this document, EPA will publish a timely withdrawal of this direct final notice of deletion before its effective date and will prepare a response to comments and continue with the deletion process on the basis of the notice of intent to delete and the comments already received.

Deletion of a site or a portion of a site from the NPL does not itself create, alter, or revoke any person's rights or obligations. In addition, deletion of a site or a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The following information provides EPA's rationale for deleting the Administration Parcel of the Site from the NPL and EPA's finding that the criteria in 40 CFR 300.425(e) are satisfied.

Background

The Site is located in College Township, Centre County, Pennsylvania, approximately two and one-quarter miles northeast of the Borough of State College, near the intersection of State Routes 322 and 26. The main Site occupies an area of approximately 32 acres consisting of the chemical manufacturing area, process buildings, a groundwater treatment building, warehouses and storage buildings and an open grassy field located south of Struble Road between a portion of the Conrail Railroad line and 1st Avenue. The Administration Parcel comprised a further area, approximately 8 acres in size, located north of Struble Road, where an administration building and associated parking areas are located.

RUTGERS Organics Corporation, (ROC), formerly known as Ruetgers-Nease Corporation (RNC), has owned and operated a chemical manufacturing plant at the main Site. The plant has operated since 1958 when it was built by Nease Chemical Company, Inc., the previous owner of the Site. As a result of an acquisition, ROC has operated the plant since December 1977.

In the immediate vicinity of the Site, the land use is predominantly industrial and commercial, with some residential dwellings located to the southeast across 1st Avenue. Local public water supply is provided throughout the surrounding area by the Lemont Water Company.

The Site was placed on the Comprehensive Environmental Response, Compensation, and Liability Act (CERCLA) National Priorities List (NPL) on September 8, 1983. Pursuant to CERCLA, as amended by the Superfund Amendments and Reauthorization Act of 1986 (SARA), ROC and the United States Environmental Protection Agency (USEPA) entered into an Administrative Order of Consent (AOC, EPA Docket No. III-88-22-DC; USEPA, 1988) on November 7, 1988. The AOC stipulated that a Remedial Investigation (RI) and Feasibility Study (FS) be performed at the Site and specific off-Site areas including Thornton Spring and a portion of Spring Creek. The RI was conducted from 1990 through 1992 and the RI Report (Golder Associates, 1993), which included a Baseline Risk Assessment, was conditionally approved by USEPA on March 26, 1993. The FS was conducted in 1993 and the FS Report (Golder Associates, 1994) was conditionally approved by USEPA on September 27, 1994.

USEPA issued a Record of Decision for the Site dated April 21, 1995 (ROD; USEPA, 1995). The 1995 ROD addressed contaminated groundwater, surface water, soils, and sediments, together with source control measures for surface water discharges. A future ROD will address soils from the riparian areas of Spring Creek and the 15-acre former sprayfield area, and sediments from the lower portion of the freshwater drainage ditch, Thornton Spring, and Spring Creek beyond the Benner Fish Hatchery. USEPA amended the 1995 ROD in 2001 with the concurrence of the Commonwealth of Pennsylvania (ROD Amendment, USEPA, 2001) to select an alternative method of soil remediation at the main Site (enhanced soil vapor extraction and soil removal). A Consent Decree, whereby ROC agreed to implement the requirements of the OU-1 ROD, as amended, was signed by ROC on September 30, 1996 (Civil Action No. 03-23; USEPA, 1996b). Since 1999, contaminated groundwater extraction and treatment, soil and sediment removal, soil vapor extraction, and groundwater and surface water monitoring have been conducted at the Site pursuant to the ROD and Consent Decree.

No remedial actions are required by the ROD and Consent Decree for the Administration Parcel. There is some ambiguity as to whether the Administration Parcel was ever truly part of the NPL Site since no manufacturing operations ever occurred thereon and the parcel is located upgradient from the remainder of the Site.

Sampling Results

Extensive sampling has been completed at the Site as part of the Remedial Investigation, the subsequent Remedial Design, and monitoring of remedial actions. Data collected from monitoring wells located within the Administration Parcel, which have been sampled for over ten years, indicates no contamination at or above clean-up levels either at or originating from the Administration Parcel. Therefore, response actions have not been required by the present ROD, nor are anticipated to be required by any future ROD for the Site. Therefore, EPA intends for this parcel to be officially removed from the NPL pursuant to 40 CFR 300.425(e).

Community Involvement

Public participation activities have been satisfied as required in CERCLA section 113(k), 42 U.S.C. 9613(k), and CERCLA section 117, 42 U.S.C. 9617. Documents in the deletion docket, which EPA relied on for recommendation of the partial deletion from the NPL, are available to the public in the information repositories.

V. Deletion Action

The EPA, with concurrence of the Commonwealth of Pennsylvania, has determined that all appropriate responses under CERCLA have been completed for the Administration Parcel, and that no further response actions, under CERCLA, are necessary. Therefore, EPA is deleting the Administration Parcel of the Site from the NPL.

Because EPA considers this action to be non-controversial and routine, EPA is taking it without prior publication of a notice of intent to delete. This direct final deletion will be effective sixty (60) days after publication of this document in the Federal Register unless EPA receives adverse comments within thirty (30) days after publication on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: September 14, 2004.
Andrew Carlin,
Acting Regional Administrator, Region III.

For the reasons set out in this document, 40 CFR part 300 is amended as follows:

PART 300—[AMENDED]

1. The authority citation for Part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended by adding a “P” in the Notes column in the entry for Centre County Kepone, State College Borough, Pennsylvania.

[FR Doc. 04-21493 Filed 9-24-04; 8:45 am]

BILLING CODE 6560-50-P